FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 016472N.

Name: (CAL.) KTL International, Inc.

Address: 3039 East Ana Street, Rancho Dominguez, CA 90221.

Date Revoked: November 25, 2004.

Reason: Failed to maintain a valid bond.

License Number: 013258N.

Name: Cargoline (USA) Inc.

Address: 33 Washington Street, 16th FL, Newark, NJ 07102.

Date Revoked: November 13, 2004.

Reason: Failed to maintain a valid bond.

License Number: 000861F.

Name: George J. Young & Co.

Address: 110 W. Ocean Blvd., Suite 622, Long Beach, CA 90801.

Date Revoked: November 14, 2004.

Reason: Failed to maintain a valid bond.

License Number: 018401F.

Name: Inlogix Corp.

Address: Lot 6 Monterrey Avenue, Geoconsult Bldg., San Juan, PR 00920.

Date Revoked: November 18, 2004.

Reason: Failed to maintain a valid bond.

License Number: 013489N.

Name: J.R. International Shipping, Inc.

Address: 25 Commerce Drive, Cranford, NJ 07016.

Date Revoked: November 7, 2004.

Reason: Failed to maintain a valid bond.

License Number: 017997F.

Name: Royal Lonestar Marketing, Inc. dba Royal Lonestar Forwarding.

Address: 3340 Greens Road, Bldg. A, Suite 880, Houston, TX 77032.

Date Revoked: November 3, 2004.

Reason: Failed to maintain a valid bond.

License Number: 011170F.

Name: Sage Freight Systems Inc. dba Sage Container Lines.

Address: 182-30 150th Road, Suite 108, Jamaica, NY 11413.

Date Revoked: November 23, 2004.

Reason: Failed to maintain a valid bond.

License Number: 017411N.

Name: Sunfreight Cargo International, Inc.

Address: 4130 Saviers Road, Oxnard, CA 93033.

Date Revoked: November 15, 2004.

Reason: Failed to maintain a valid bond.

License Number: 000489F.

Name: T.A. Coleman & Co., Inc.

Address: 393 Jericho Turnpike, Mineola, NY 11501.

Date Revoked: October 24, 2004.

Reason: Failed to maintain a valid bond.

License Number: 017747N.

Name: Tomcar Investment USA, Inc.

Address: 10773 NW. 58th Street, Suite 296, Miami, FL 33178.

Date Revoked: November 7, 2004.

Reason: Failed to maintain a valid bond.

Sandra L. Kusumoto,
Director, Bureau of Certification and Licensing.

[FR Doc. 04-26987 Filed 12-7-04; 8:45 am]

BILLING CODE 6730-01-P